NATIONAL SCIENCE FOUNDATION

Business and Operations Advisory Committee; Notice of Meeting

In accordance with Federal Advisory Committee Act (Pub. L. 92-463, as amended), the National Science Foundation announces the following meeting:

Name: Business and Operations Advisory Committee (9556).

Date/Time: May 19, 2009; 1 p.m. to 5:30 p.m. (EST); May 20, 2009; 8 a.m. to 12 p.m. (EST).

Place: National Science Foundation, 4201 Wilson Boulevard, Stafford I, Room 1235.

Type of Meeting: Open.

Contact Person: Joan Miller, National Science Foundation, 4201 Wilson Boulevard, Arlington, VA 22230, (703) 292-8200.

Purpose of Meeting: To provide advice concerning issues related to the oversight, integrity, development and enhancement of NSF's business operations.

Agenda:

May 19, 2009

Welcome/Introductions; OIRM/CIO/BFA Updates; The American Recovery Act and Reinvestment Act; Research.gov.

May 20, 2009

Future NSF-2013 Lease Expiration; Committee discussion; Prepare for Meeting with NSF Deputy Director; Discussion with Deputy Director; Closing Committee Discussion/Wrap-Up.

Dated: April 28, 2009.
Susanne Bolton,
Committee Management Officer.

[FR Doc. E9-10026 Filed 4-30-09; 8:45 am]

BILLING CODE 7555-01-P